DEPARTMENT OF THE TREASURY

Agency Information Collection Activities; Submission for OMB Review; Comment Request; Title VI Compliance Worksheet

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 24, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

Title: Title VI Compliance Worksheet.

OMB Control Number: 1559-NEW.

Type of Review: Request for a New OMB Control Number.

Description: The Community Development Financial Institutions Fund (CDFI Fund), Office of Certification, Compliance Monitoring and Evaluation (CCME) Title VI Compliance Worksheet (Worksheet) will capture qualitative information from all Applicants to the CDFI Fund's Federal Financial Assistance Programs. The Worksheet will be submitted once annually from all Applicants to assess their compliance with federal civil rights requirements via an online form through the CDFI Fund's Awards Management Information System (AMIS). Applicants must be compliant with federal civil rights requirements in order to be deemed eligible to receive Federal Financial Assistance grants from the CDFI Fund. The questions in the Worksheet are intended to assist the CDFI Fund in determining whether Federal Financial Assistance Applicants are compliant with the Treasury regulations implementing Title VI of the Civil Rights Act (Title VI), set forth in 31 CFR part 22.

Form: Title VI Compliance Worksheet.

Affected Public: Private Sector.

Estimated Number of Respondents: 900.

Frequency of Response: Annually.

Estimated Total Number of Annual Responses: 900.

Estimated Time per Response: 30 minutes.

Estimated Total Annual Burden Hours: 450.

Authority: 44 U.S.C. 3501 et seq.

Dated: October 19, 2021.
Spencer W. Clark,
Treasury PRA Clearance Officer.

[FR Doc. 2021-23138 Filed 10-22-21; 8:45 am]

BILLING CODE 4810-70-P